DEPARTMENT OF COMMERCE

National Oceanic and Atmospheric Administration

RIN: 0648-XF02

South Atlantic Fishery Management Council; Public Meetings

AGENCY: National Marine Fisheries Service (NMFS), National Oceanic and Atmospheric Administration, Commerce.

ACTION: Notice of public scoping meetings.

SUMMARY: The South Atlantic Fishery Management Council (Council) will hold a series of public scoping meetings regarding a proposed Comprehensive Allocation Amendment, Amendment 17 to the Snapper Grouper Fishery Management Plan (FMP) for the South Atlantic, Amendment 18 to the Snapper Grouper FMP for the South Atlantic, and commercial allocation of the South Atlantic king mackerel quota. See SUPPLEMENTARY INFORMATION.

DATES: The series of 5 public scoping meetings will be held February 4 - 7, 2008 and February 20, 2008. All scoping meetings will be open from 2 p.m. - 5 p.m. and from 6 p.m. - 8 p.m. Council staff and area Council members will be available for informal round table discussions and to answer questions. Members of the public will have an opportunity to go on record at any time during the meeting hours to record their comments on the scoping issues for Council consideration. Written comments must be received in the South Atlantic Council's office by 5 p.m. on February 22, 2008. See SUPPLEMENTARY INFORMATION.

ADDRESSES: Written comments should be sent to Bob Mahood, Executive Director, South Atlantic Fishery Management Council, 4055 Faber Place Drive, Suite 201, North Charleston, SC 29405, or via email to: CompAllocScoping@safmc.net for the Comprehensive Allocation Amendment; SGAm17Scoping@safmc.net for Amendment 17 to the Snapper Grouper FMP; SGAm18Scoping@safmc.net for Amendment 18 to the Snapper Grouper FMP; and Mack16Scoping@safmc.net for the commercial king mackerel quota allocation comments. Copies of the scoping documents are available from Kim Iverson, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net

SUPPLEMENTARY INFORMATION:

Meeting Dates and Locations:

The scoping meetings will be held at the following locations:

1. February 4, 2008 - The Mutiny Hotel, 2951 South Bayshore Drive, Coconut Grove, FL 33133, telephone: (305) 441-2100;

2. February 5, 2008 - Radisson Resort at the Port, 8701 Astronaut Boulevard, Cape Canaveral, FL 32920, telephone: (321) 784-0000;

3. February 6, 2008 - Quality Inn, 125 Venure Drive, Brunswick, GA 31525, telephone: (912) 265-4600;

4. February 7, 2008 - Sheraton New Bern, 100 Middle Street, New Bern, NC 28560, telephone: (252) 638-3585;

5. February 20, 2008 - Hilton Garden Inn, 5265 International Blvd., North Charleston, South CA 29418, telephone: (843) 308-9331.

The public scoping meetings will address overlapping fisheries issues for the South Atlantic region. These include: (1) A Comprehensive Allocation Amendment - the Council is considering this amendment to address commercial and recreational sector allocations of species under its jurisdiction in order to meet the Annual Catch Limit requirements; (2) Amendment 17 to the Snapper Grouper FMP - addressing requirements to establish Annual Catch Limits and Accountability Measures for overfished species by 2010 as specified in the Reauthorized Magnuson Stevens Fishery Conservation and Management Act, reduction of bycatch for deepwater snapper grouper species, options for the black sea bass pot and longline gear snapper grouper fisheries, changes to the golden tilefish fishing year, a 6-month winter closure for the snowy grouper fishery, extension of the management unit (and regulations) through the Mid-Atlantic Council's area of jurisdiction, golden tilefish allocations, and possible removal of some species from the snapper grouper fishery management unit; (3) Amendment 18 to the Snapper Grouper FMP - addressing possible Limited Access Privilege Programs for the commercial snapper grouper fishery; and (4) Commercial allocation of the commercial king mackerel fishery. With possible reductions in the Total Allowable Catch (TAC) for South Atlantic king mackerel, the Council is looking at options to ensure allocations of the commercial quota are fairly distributed from North Carolina to Florida.

Special Accommodations

These meetings are physically accessible to people with disabilities. Requests for sign language interpretation or other auxiliary aids should be directed to the Council office (see ADDRESSES) by 3 days prior to the start of each meeting.

Dated: January 10, 2008.
Tracey L. Thompson,
Acting Director, Office of Sustainable Fisheries, National Marine Fisheries Service.

[FR Doc. E8-541 Filed 1-14-08; 8:45 am]

BILLING CODE 3510-22-S